DEPARTMENT OF ENERGY

Federal Energy Regulatory Commission

[Project No. 2219-020—Utah]

Garkane Energy; Notice of Availability of Draft Environmental Assessment

December 14, 2006.

In accordance with the National Environmental Policy Act of 1969 and the Federal Energy Regulatory Commission's (Commission) regulations, 18 CFR Part 380 (Order No. 486, 52 FR 47897), the Office of Energy Projects has reviewed the application for new license for the Boulder Creek Hydroelectric Project, located on Boulder Creek in Garfield County, Utah, and has prepared a Draft Environmental Assessment (DEA) for the project. The project occupies 29.59 acres of federal land, administered by the U.S. Forest Service as part of the Dixie National Forest.

The DEA contains the staff's analysis of the potential environmental impacts of the project and concludes that issuing a new license for the project, with appropriate environmental protective measures, would not constitute a major federal action that would significantly affect the quality of the human environment.

A copy of the DEA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Any comments should be filed within 45 days from the date of this notice and should be addressed to Magalie R. Salas, Secretary, Federal Energy Regulatory Commission, 888 First Street, NE., Washington, DC 20426. Please affix Project No. 2219-020 to all comments. Comments may be filed electronically via the Internet in lieu of paper. The Commission strongly encourages electronic filings. See 18 CFR 385.2001(a)(1)(iii) and the instructions on the Commission's Web site (http://www.ferc.gov) under the “e-Filing” link.

Magalie R. Salas,
Secretary.

[FR Doc. E6-22664 Filed 1-5-07; 8:45 am]

BILLING CODE 6717-01-P